DEPARTMENT OF THE TREASURY

Internal Revenue Service

26 CFR Part 1

[TD 9090]

RIN 1545-BC31

Limitation on Use of the Nonaccrual-Experience Method of Accounting Under Section 448(d)(5); Correction

AGENCY: Internal Revenue Service (IRS), Treasury.

ACTION: Correction to temporary regulations.

SUMMARY: This document contains corrections to temporary regulations that were published in the Federal Register on September 4, 2003 (68 FR 52496) that revises temporary income tax regulations to providing guidance regarding the use of a nonaccrual-experience method of accounting by taxpayers using an accrual method of accounting and performing services.

EFFECTIVE DATE: This correction is effective September 4, 2003.

FOR FURTHER INFORMATION CONTACT: Terrance McWhorter (202) 622-4970 (not a toll free number).

SUPPLEMENTARY INFORMATION:

Background

The temporary regulations that are the subject of these corrections are under section 448 of the Internal Revenue Code.

Need for Correction

As published, this temporary regulation (TD 9090) contain errors that may prove to be misleading and are in need of clarification.

Correction of Publication

Accordingly, the publication of temporary regulations (TD 9090), which were the subject of FR Doc. 03-22458, is corrected as follows:

1. On page 52504, column 1, § 1.448-2T(f)(c) T3Example 4, the sixth entry in the table is corrected to read as follows:

Taxable year | Total accounts receivable | Bad debts adjusted for recoveries
* * * * *
2002 | 90,000 | 16,800
* * * * *

2. On page 52504, column 1, § 1.448-2T(f)(c), Example 4 (ii), third line, the language “Assume that $49,300 of the total $80,000 of” is corrected to read “Assume that $49,300 of the total $90,000 of”.

Cynthia E. Grigsby,
Acting Chief, Publications and Regulations Branch, Legal Processing Division, Associate Chief Counsel, (Procedure and Administration).

[FR Doc. 03-29727 Filed 11-26-03; 8:45 am]

BILLING CODE 4830-01-P